DEPARTMENT OF ENERGY

Federal Energy Regulatory Commission

[Docket No. ER00-107-003, et al.]

La Paloma Generating Company LLC, et al.; Electric Rate and Corporate Filings

April 12, 2005.

The following filings have been made with the Commission. The filings are listed in ascending order within each docket classification.

1. La Paloma Generating Company, LLC

[Docket No. ER00-107-003]

Take notice that on March 31, 2005, La Paloma Generating Company, LLC submitted its triennial market power update and certain revisions to its market-based rate tariff.

Comment Date: 5 p.m. eastern time on April 21, 2005.

2. California Independent System Operator Corporation; Pacific Gas and Electric Company; San Diego Gas and Electric Company; Southern California Edison Company

[Docket Nos. ER04-445-009, ER04-435-011, ER04-441-007 and ER04-443-007]

Take notice that on April 5, 2005, the California Independent System Operator Corporation (CAISO) filed a response to the Commission's February 25, 2005 letter requesting additional information with respect to the January 5, 2005 Large Generator Interconnection Procedures filing by CAISO and the joint January 5, 2005 Large Generator Interconnection Agreement filing by CAISO, Pacific Gas & Electric Company, San Diego Gas & Electric Company, and Southern California Edison Company.

The CAISO states that a copy of the filing has been served on all parties listed on the official service lists in the above-captioned proceedings.

Comment Date: 5 p.m. eastern time on April 26, 2005.

3. Mid-Continent Area Power Pool

[Docket No. ER04-960-004]

Take notice that on April 5, 2005, the Mid-Continental Area Power Pool (MAPP), on behalf of its individual public utility members, submitted a compliance filing pursuant to the Commission's order issued March 16, 2005 in Midwest Independent Transmission System Operator, Inc., 110 FERC ¶61,290 (2005).

MAPP states that a copy of the filing has been posted on the MAPP Web site at www.mapp.org.

Comment Date: 5 p.m. eastern time on April 26, 2005.

4. North American Electric Reliability Council

[Docket No. ER05-580-002]

Take notice that on April 5, 2005, the Midwest Independent Transmission System Operator, Inc. (Midwest ISO) submitted a compliance filing to confirm that the current version of the North American Electric Reliability Council's Transmission Loading Relief procedures are incorporated in Attachement Q of the Midwest ISO's Open Access Transmission Energy Markets Tariff, pursuant to the Commission's order issued March 30, 2005 in North American Electric Reliability Council, 110 FERC ¶61,288 (2005).

Comment Date: 5 p.m. eastern time on April 26, 2005.

5. Pacific Gas and Electric Company

[Docket Nos. ER05-777-000 and ER05-777-001]

Take notice that on April 4, 2005, as amended April 7, 2005, Pacific Gas and Electric (PG&E) tendered for filing the 2003 true-up of rates pursuant to Contract No. 14-06-200-2948A, PG& E First Revised Rate Schedule FERC No. 79, between PG&E and the Western Area Power Administration (Western).

PG&E states that copies of the filing have been served on Western and the California Public Utilities Commission.

Comment Date: 5 p.m. eastern time on April 28, 2005.

6. USGen New England Inc.

[Docket No. ER05-780-000]

Take notice that on April 5, 2005, USGen New England, Inc. (USGenNE) submitted a Notice of Cancellation of Service Agreement No. 20 under FERC Electric Tariff, Original Vol. No. 1, between USGenNE and New England Power Company.

USGenNE states that the filing has been served on New England Power Company.

Comment Date: 5 p.m. eastern time on April 26, 2005.

7. Virginia Electric and Power Company

[Docket No. ER05-781-000]

Take notice that on April 5, 2005, Virginia Electric and Power Company tendered for filing a letter agreement between Dominion Virginia Power (Dominion) and Virginia Municipal Electric Association No. 1 (VMEA). Dominion requests an effective date of June 4, 2005.

Dominion states that copies of the filing were served on VMEA, the Virginia State Corporation Commission and the North Carolina Utilities Commission.

Comment Date: 5 p.m. eastern time on April 26, 2005.

8. Kentucky Utilities Company

[Docket No. ER05-782-000]

Take notice that on April 5, 2005, Kentucky Utilities Company (KU) tendered for filing an executed amendment to the interconnection agreement between KU and East Kentucky Power Cooperative, Inc. to provide for the construction of facilities to add an additional interconnection point on KU's transmission system. KU requests an effective date of April 5, 2005.

Comment Date: 5 p.m. eastern time on April 26, 2005.

9. Tucson Electric Power Company

[Docket No. ER05-783-000]

Take notice that on April 5, 2005, Tucson Electric Power Company (Tucson Electric) submitted for filing a Control Area Services Agreement between Tucson Electric and Morenci Water & Electric Company. Tucson Electric requests an effective date of August 18, 2004.

Comment Date: 5 p.m. eastern time on April 26, 2005.

10. El Paso Electric Company

[Docket No. ES05-25-000]

Take notice that on April 1, 2005, El Paso Electric Company (El Paso) submitted an application pursuant to section 204 of the Federal Power Act seeking authorization to issue long-term debt in the form of first mortgage bonds or unsecured bonds in an amount not to exceed $400 million.

El Paso also requests a waiver from the Commission's competitive bidding and negotiated placement requirements at 18 CFR 34.2.

Comment Date: 5 p.m. eastern time on April 19, 2005.

11. Old Dominion Electric Cooperative

[Docket No. ES05-26-000]

Take notice that on April 7, 2005, Old Dominion Electric Cooperative (Old Dominion) submitted an application pursuant to section 204 of the Federal Power Act seeking authorization to guarantee obligations in an amount not to exceed $100 million at any one time.

Old Dominion also requests waiver from the Commission's competitive bidding and negotiated placement requirements at 18 CFR 34.2.

Comment Date: 5 p.m. eastern time on May 3, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-1845 Filed 4-18-05; 8:45 am]

BILLING CODE 6717-01-P